ENVIRONMENTAL PROTECTION AGENCY

40 CFR Parts 3, 51, 60, 63, 70, 123, 142, 145, 162, 233, 257, 258, 271, 281, 403, 501, 745 and 763

[FRL-7102-1]

Public Hearings on the Proposed Establishment of Electronic Reporting; Electronic Records Rule

AGENCY: Environmental Protection Agency (EPA).

ACTION: Proposed rule; change in public hearings.

SUMMARY: This document announces a change to the previously published time and format for an informal public hearing EPA is holding, on Friday, November 9, to take comments on the Agency's proposed rule for establishment of electronic reporting and electronic records, published on August 31, 2001.

DATES: The date for this public hearing remains the same: Friday, November 9, 2001. The public hearing time has been changed to 9:30 a.m. to 4 p.m. (CST). The hearing may conclude prior to 4 p.m., depending on the number of attendees and level of interest.

ADDRESSES: The location for this public hearing remains the same: The Ralph H. Metcalfe Federal Building, 3rd Floor, 77 West Jackson Blvd., Chicago, IL.

FOR FURTHER INFORMATION CONTACT: David Schwarz (2823), Office of Environmental Information, U.S. Environmental Protection Agency, 1200 Pennsylvania Avenue NW, Washington, DC 20460, (202) 260-2710, schwarz.david@epa.gov, or Evi Huffer (2823), Office of Environmental Information, U.S. Environmental Protection Agency, 1200 Pennsylvania Avenue NW, Washington, DC, 20460, (202) 260-8791, huffer.evi@epa.gov.

SUPPLEMENTARY INFORMATION: The meeting will be structured by topics as follows: Welcome and Introduction; EPA Presentation on Proposed Rule; General Questions on Presentation; Requirements for Electronic Reporting to USEPA and Electronic Signature; EPA's Electronic Reporting System: “The Central Data Exchange”; Electronic Record-keeping Requirements; and Criteria for State Electronic Reporting and Record-keeping Programs.

EPA published its proposed rule for Establishment of Electronic Reporting; Electronic Records in the Federal Register on August 31, 2001 (66 FR 46162-46195). EPA proposes to allow electronic reporting and electronic Record-keeping under the environmental regulations in Title 40 of the Code of Federal Regulations. It proposes to remove regulatory obstacles to electronic reporting and Record-keeping and sets forth the conditions for the submission of electronic documents or maintenance of electronic records in lieu of paper documents or records. EPA is proposing the rule, in part, under the authority of the Government Paperwork Elimination Act (GPEA) of 1998, Public Law 105-277.

The proposed rule is available electronically on the Internet at http://www.epa.gov/fedrgstr/EPA-GENERAL/2001/August/Day-31/g21810.htm. The proposed rule and supporting materials are also available for viewing in the Enforcement and Compliance Docket and Information Center, located at 1200 Pennsylvania Avenue, NW, (Ariel Rios Building), 2nd Floor, Room 2213, Washington, DC 20460. The documents are available for viewing from 9 a.m. to 4 p.m., Monday through Friday, excluding Federal holidays. To review docket materials, it is recommended that the public make an appointment by calling (202) 564-2614 or (202) 564-2119.

Dated: October 29, 2001.
Connie Dwyer,
Acting Director, Collection Services Division, Office of Information Collection, Office of Environmental Information.

[FR Doc. 01-28179 Filed 11-7-01; 1:30 pm]

BILLING CODE 6560-50-P